DEPARTMENT OF HOMELAND SECURITY

Federal Emergency Management Agency

44 CFR Part 67

[Docket ID FEMA-2010-0003; Internal Agency Docket No. FEMA-B-1095]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before August 19, 2010.

ADDRESSES: The corresponding preliminary Flood Insurance Rate Map (FIRM) for the proposed BFEs for each community is available for inspection at the community's map repository. The respective addresses are listed in the table below.

You may submit comments, identified by Docket No. FEMA-B-1095, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Muhlenberg County, Kentucky, and Incorporated Areas
Brier Creek (Backwater effects from Green River) | From the confluence with the Pond River to approximately 1,390 feet downstream of Phillips Town Road | None | +389 | Unincorporated Areas of Muhlenberg County.
Caney Creek | Approximately 0.5 mile upstream of North Main Street | None | +413 | City of Greenville, Unincorporated Areas of Muhlenberg County.
| At the confluence with Caney Creek Tributary 27 | None | +423
Caney Creek Tributary 27.1 (Backwater effects from Caney Creek) | From the confluence with Caney Creek to approximately 0.7 mile upstream of the confluence with Caney Creek | None | +424 | City of Greenville, Unincorporated Areas of Muhlenberg County.
Caney Creek Tributary 31 (Backwater effects from Caney Creek) | From the confluence with Caney Creek to approximately 0.6 mile upstream of the confluence with Caney Creek | None | +413 | Unincorporated Areas of Muhlenberg County.
Canfield Branch (Backwater effects from Green River) | From the confluence with the Mud River to approximately 340 feet upstream of Forest Oak Church Road | None | +404 | Unincorporated Areas of Muhlenberg County.
Cypress Creek (Backwater effects from Green River) | From approximately 0.6 mile downstream of KY-175 to approximately 0.7 mile upstream of KY-81 | None | +393 | Unincorporated Areas of Muhlenberg County.
Cypress Creek Tributary 1 (Backwater effects from Green River) | From the confluence with Cypress Creek to approximately 0.8 mile upstream of Coffman Schoolhouse Road | None | +393 | Unincorporated Areas of Muhlenberg County.
Green River | Approximately 2.6 miles upstream of CSX Railroad | +394 | +393 | Unincorporated Areas of Muhlenberg County.
| At the confluence with the Mud River | +403 | +404
Irwin Creek (Backwater effects from Green River) | From the confluence with Isaacs Creek to approximately 2,000 feet upstream of the confluence with Isaacs Creek | None | +389 | Unincorporated Areas of Muhlenberg County.
Isaacs Creek (Backwater effects from Green River) | From the confluence with the Green River to approximately 1,035 feet upstream of the confluence with Irwin Creek | None | +389 | Unincorporated Areas of Muhlenberg County.
Jacobs Creek (Backwater effects from Green River) | From the confluence with the Green River to approximately 2.0 miles upstream of Riverside Road | None | +402 | Unincorporated Areas of Muhlenberg County.
Jacobs Creek Tributary 7 (Backwater effects from Green River) | From the confluence with Jacobs Creek to approximately 370 feet upstream of Riverside Road | None | +402 | Unincorporated Areas of Muhlenberg County.
Little Cypress Creek | Approximately 190 feet upstream of West Whitmer Street | None | +405 | City of Central City, Unincorporated Areas of Muhlenberg County.
| Just upstream of Front Street | None | +408
Little Cypress Creek Tributary 16 (Backwater effects from Little Cypress Creek) | From the confluence with Little Cypress Creek to approximately 2,507 feet upstream of the confluence with Little Cypress Creek | None | +405 | City of Central City, Unincorporated Areas of Muhlenberg County.
Little Cypress Creek Tributary 8 (Backwater effects from Little Cypress Creek) | From the confluence with Little Cypress Creek to approximately 1,100 feet upstream of the confluence with Little Cypress Creek | None | +422 | Unincorporated Areas of Muhlenberg County.
Log Creek (Backwater effects from Green River) | From the confluence with the Pond River to approximately 3,900 feet upstream of Millport Sacramento Road | None | +389 | Unincorporated Areas of Muhlenberg County.
Mud River (Backwater effects from Green River) | From the confluence with the Green River to approximately 535 feet upstream of the confluence with Canfield Branch | None | +404 | Unincorporated Areas of Muhlenberg County.
Muddy Fork (Backwater effects from Green River) | From the confluence with Cypress Creek to approximately 0.8 mile upstream of the confluence with Cypress Creek | None | +393 | Unincorporated Areas of Muhlenberg County.
Nelson Creek (Backwater effects from Green River) | From the confluence with the Green River to approximately 0.4 mile upstream of Green River Haul Road | None | +398 | Unincorporated Areas of Muhlenberg County.
Opossum Run (Backwater effects from Sandlick Creek) | From the confluence with Sandlick Creek to approximately 1,175 feet upstream of Opossum Lane | None | +430 | Unincorporated Areas of Muhlenberg County.
Plum Creek (Backwater effects from Green River) | From the confluence with Pond Creek to approximately 300 feet downstream of the confluence with Plum Creek Tributary 4 | None | +401 | City of Drakesboro, Unincorporated Areas of Muhlenberg County.
Plum Creek Tributary 5 (Backwater effects from Green River) | From the confluence with Plum Creek to approximately 0.65 mile upstream of the confluence with Plum Creek | None | +401 | Unincorporated Areas of Muhlenberg County.
Pond Creek (Backwater effects from Green River) | From the confluence with the Green River to approximately 1,280 feet upstream of I-431 | None | +401 | Unincorporated Areas of Muhlenberg County.
Pond Creek (Backwater effects from Sandlick Creek) | From the confluence with Sandlick Creek to just downstream of Johnson Road | +422 | +421 | Unincorporated Areas of Muhlenberg County.
Pond Creek Tributary 29 (Backwater effects from Green River) | From the confluence with Pond Creek to approximately 1,000 feet upstream of KY-2107 | None | +401 | Unincorporated Areas of Muhlenberg County.
Pond Creek Tributary 30 (Backwater effects from Green River) | From the confluence with Pond Creek to approximately 1.4 mile upstream of the confluence with Pond Creek | None | +401 | Unincorporated Areas of Muhlenberg County.
Pond River (Backwater effects from Green River) | From the confluence with the Green River to approximately 1.0 mile upstream of KY-70 | None | +389 | Unincorporated Areas of Muhlenberg County.
Sandlick Creek Tributary 2 (Backwater effects from Sandlick Creek) | From the confluence with Sandlick Creek to approximately 1,600 feet upstream of the confluence with Sandlick Creek | None | +449 | Unincorporated Areas of Muhlenberg County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Central City
Maps are available for inspection at City Hall, 214 North 1st Street, Central City, KY 42330.
City of Drakesboro
Maps are available for inspection at City Hall, 212 West Mose Rager Boulevard, Drakesboro, KY 42337.
City of Greenville
Maps are available for inspection at City Hall, 118 Court Street, Greenville, KY 42345.
Ohio County, Kentucky, and Incorporated Areas
Adams Fork Tributary 22 (Backwater effects from Rough River) | From the confluence with Adams Fork to approximately 785 feet upstream of Cross Hill Road | None | +417 | Unincorporated Areas of Ohio County.
Bartnett Creek (Backwater effects from Green River) | From the confluence with the Rough River to approximately 0.7 mile upstream of the confluence with North Fork Bartnett Creek | None | +392 | Unincorporated Areas of Ohio County.
Bull Run (Backwater effects from Green River) | From the confluence with Thoroughfare Stream to approximately 0.61 mile downstream of Cool Springs Road | None | +405 | Unincorporated Areas of Ohio County.
Caney Creek (Backwater effects from Rough River) | From the confluence with the Rough River to approximately 1,700 feet downstream of KY-878 | None | +425 | Unincorporated Areas of Ohio County.
East Fork Williams Creek (Backwater effects from Green River) | From the confluence with Williams Creek to approximately 0.94 mile upstream of the confluence with Williams Creek | None | +399 | Unincorporated Areas of Ohio County.
Green River | At Western Kentucky Parkway | +400 | +401 | Town of Rockport, Unincorporated Areas of Ohio County.
| Approximately 3.2 miles upstream of the confluence with Green River Tributary 5 | +414 | +412
Huff Creek (Backwater effects from Rough River) | From the confluence with the Rough River to approximately 0.9 mile upstream of Abandoned Illinois Central Railroad | None | +425 | Unincorporated Areas of Ohio County.
Huff Creek Tributary 5 (Backwater effects from Rough River) | From the confluence with Huff Creek to approximately 1,380 feet upstream of the confluence with Huff Creek | None | +425 | Unincorporated Areas of Ohio County.
Lewis Creek (Backwater effects from Green River) | From the confluence with the Green River to approximately 1,015 feet downstream of KY-1245 | None | +400 | Unincorporated Areas of Ohio County.
Mill Creek 1 (Backwater effects from Rough River) | From the confluence with the Rough River to approximately 700 feet upstream of KY-69 | None | +399 | Unincorporated Areas of Ohio County.
Morrison Run (Backwater effects from Rough River) | From the confluence with the Rough River to approximately 140 feet upstream of Utley Drive | None | +399 | Unincorporated Areas of Ohio County.
Muddy Creek (Backwater effects from Green River) | From the confluence with the Rough River to approximately 460 feet upstream of North Main Street | None | +394 | Unincorporated Areas of Ohio County.
No Creek (Backwater effects from Green River) | From the confluence with the Rough River to approximately 1,815 feet upstream of KY-136 | None | +392 | Unincorporated Areas of Ohio County.
North Fork Bartnett Creek (Backwater effects from Green River) | From the confluence with Bartnett Creek to approximately 0.65 foot upstream of the confluence with Bartnett Creek | None | +392 | City of Hartford, Unincorporated Areas of Ohio County.
North Fork Muddy Creek (Backwater effects from Green River) | From the confluence with Muddy Creek to approximately 1.7 mile upstream of the confluence with Muddy Creek | None | +394 | City of Hartford, Unincorporated Areas of Ohio County.
Pond Run 1 (Backwater effects from Green River) | From the confluence with the Green River to just upstream of Ken Mine Road | None | +402 | Unincorporated Areas of Ohio County.
Pond Run (Backwater effects from Rough River) | From the confluence with the Rough River to approximately 1.4 mile upstream of the confluence with the Rough River | None | +440 | Unincorporated Areas of Ohio County.
Render Creek (Backwater effects from Green River) | From the confluence with Lewis Creek to approximately 0.8 mile upstream of the confluence with Lewis Creek | None | +400 | Unincorporated Areas of Ohio County.
Slaty Creek (Backwater effects from Green River) | From the confluence with Thoroughfare Stream to approximately 2,520 feet downstream of Barnes Road | None | +411 | Unincorporated Areas of Ohio County.
Slovers Creek (Backwater effects from Rough River) | From the confluence with the Rough River to approximately 666 feet downstream of KY-1414 | None | +408 | Unincorporated Areas of Ohio County.
Slovers Creek Tributary 4 (Backwater effects from Rough River) | From the confluence with Slovers Creek to approximately 0.7 mile upstream of the confluence with Slovers Creek | None | +409 | Unincorporated Areas of Ohio County.
Southards Creek (Backwater effects from Green River) | From the confluence with Lewis Creek to approximately 2,150 feet upstream of U.S. Route 62 | None | +400 | Unincorporated Areas of Ohio County.
Spur Creek (Backwater effects from Green River) | From the confluence with the Green River to approximately 3.5 miles upstream of the confluence with the Green River | None | +403 | Unincorporated Areas of Ohio County.
Thoroughfare Stream Tributary 2 (Backwater effects from Green River) | From the confluence with Thoroughfare Stream to approximately 402 feet downstream of Schultztown Road | None | +405 | Unincorporated Areas of Ohio County.
Walton Creek (Backwater effects from Green River) | From the confluence with the Rough River to approximately 1.7 mile upstream of the confluence with the Rough River | None | +392 | Unincorporated Areas of Ohio County.
West Fork Lewis Creek (Backwater effects from Green River) | From the confluence with Lewis Creek to approximately 900 feet downstream of Rockport Ceralvo Road | None | +400 | Unincorporated Areas of Ohio County.
West Fork Lewis Creek Tributary 5 (Backwater effects from Green River) | From the confluence with West Fork Lewis Creek to approximately 1,660 feet upstream of KY-85 | None | +3400 | Unincorporated Areas of Ohio County.
Williams Creek (Backwater effects from Green River) | From the confluence with the Green River to approximately 1,170 feet upstream of KY-69 | None | +399 | Unincorporated Areas of Ohio County.
Wolfpen Run (Backwater effects from Rough River) | From the confluence with the Rough River to approximately 1.3 mile upstream of the confluence with the Rough River | None | +413 | Unincorporated Areas of Ohio County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Hartford
Maps are available for inspection at City Hall, 116 East Washington Street, Hartford, KY 42347.
Town of Rockport
Maps are available for inspection at the Town Hall, 9133 West U.S. Route 62, Rockport, KY 42369.
Unincorporated Areas of Ohio County
Maps are available for inspection at the Ohio County Courthouse, 301 South Main Street, Hartford, KY 42347.
Shiawassee County, Michigan (All Jurisdictions)
Holly Drain | Approximately 1,470 feet upstream of Maple Street | None | +764 | Village of Vernon.
| Approximately 1,500 feet upstream of Maple Street | None | +764
Shiawassee River | Approximately 5,780 feet upstream of North Shiawassee Street | None | +741 | Charter Township of Caledonia, Township of Vernon, Village of Vernon.
| Approximately 520 feet upstream of Washington Avenue | None | +762
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Charter Township of Caledonia
Maps are available for inspection at the Caledonia Township Hall, 135 North State Street, Owosso, MI 48867.
Township of Vernon
Maps are available for inspection at the Vernon Township Hall, 6801 South Durand Road, Durand, MI 48429.
Village of Vernon
Maps are available for inspection at the Vernon Village Hall, 120 Main Street, Vernon, MI 48476.
Hancock County, Ohio, and Incorporated Areas
Blanchard River | Approximately 1,300 feet upstream of County Highway 140 | +773 | +772 | Unincorporated Areas of Hancock County.
| Approximately 2,000 feet downstream of Township Road 241 | +785 | +786
Eagle Creek | Approximately 0.53 mile downstream of Township Road 204 | +785 | +783 | Unincorporated Areas of Hancock County.
| Approximately 1,100 feet downstream of Township Road 49 | +798 | +797
Lye Creek | Approximately 0.61 mile downstream of County Highway 180 | +780 | +779 | Unincorporated Areas of Hancock County.
| Just downstream of County Highway 180 | +784 | +781
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Hancock County
Maps are available for inspection at 300 South Main Street, Findlay, OH 45840.
Manitowoc County, Wisconsin, and Incorporated Areas
Centerville Creek | Approximately 0.25 mile downstream of the bridge at West Washington Avenue | None | +682 | Village of Cleveland.
| Approximately 380 feet downstream of the bridge at West Washington Avenue | None | +688
Little Manitowoc River | Approximately 0.47 mile downstream of the bridge at Goodwin Road | None | +626 | City of Manitowoc.
| At the bridge at Goodwin Road | None | +643
Sheboygan River | At the bridge at State Highway 67/32 | None | +882 | City of Kiel.
| Approximately 0.25 mile upstream of the bridge at State Highway 67/32 | None | +884
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Kiel
Maps are available for inspection at 621 6th Street, Kiel, WI 53042.
City of Manitowoc
Maps are available for inspection at 900 Quay Street, Manitowoc, WI 54220.
Village of Cleveland
Maps are available for inspection at 1150 West Washington Street, Cleveland, WI 53015.

(Catalog of Federal Domestic Assistance No. 97.022, “Flood Insurance.”)

Dated: May 11, 2010.
Sandra K. Knight,
Deputy Federal Insurance and Mitigation Administrator, Mitigation, Department of Homeland Security, Federal Emergency Management Agency.

[FR Doc. 2010-12204 Filed 5-20-10; 8:45 am]

BILLING CODE 9110-12-P